DEPARTMENT OF COMMERCE

National Oceanic and Atmospheric Administration

Proposed Information Collection; Comment Request; Alaska Region Scale and Catch Weighing Requirements

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 31, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Jennifer Watson, (907) 586-7228.

SUPPLEMENTARY INFORMATION:

I. Abstract

This request is for extension of a currently approved information collection.

Scale and catch weighing requirements address performance standards designed to ensure that all catch delivered to the processor is accurately weighed and accounted for. Scale and catch-weighing monitoring is required for Western Alaska Community Development Quota Program (CDQ) catcher/processors (C/Ps), American Fisheries Act (AFA) C/Ps, AFA motherships, AFA shoreside processors and stationary floating processors, Central Gulf of Alaska Rockfish Program trawl C/Ps, non-AFA trawl C/Ps participating in Bering Sea and Aleutian Islands (BSAI) trawl fisheries, and longline C/Ps participating in BSAI Pacific cod fisheries.

National Marine Fisheries Service (NMFS) has identified three primary objectives for monitoring catch. First, monitoring must ensure independent verification of catch weight, species composition, and location data for every delivery by a catcher vessel or every pot by a C/P. Second, all catch must be weighed accurately using NMFS-approved scales to determine the weight of total catch. Third, the system must provide a verifiable record of the weight of each delivery. To effectively manage fisheries, NMFS must have data that will provide reliable independent estimates of the total catch.

II. Method of Collection

Respondents have a choice of either electronic or paper forms. Methods of submittal include email, online, mail, and facsimile transmission. Daily flow scale and hopper scale tests are reported using an electronic logbook. Printed reports are generated automatically by software. Video monitoring systems record and store video data automatically.

III. Data

OMB Control Number: 0648-0330.

Form Number(s): None.

Type of Review: Regular submission (extension of a current information collection).

Affected Public: Business or other for-profit organizations; Individuals or households.

Estimated Number of Respondents: 140.

Estimated Time per Response: 6 minutes for at-sea flow scales inspection request; 45 minutes for record of daily flow scale test and record of daily hopper scale test; 1 minute for groundfish catch weight printed report, groundfish audit trail printed report, groundfish calibration log printed report, groundfish fault log printed report, crab catch weight printed report, crab audit trail printed report, and State of Alaska scale printed report; 1 hour for electronic bin monitoring system, record and store data; 2 hours for observer sampling station inspection request, bin video monitoring inspection request, flow scale video monitoring inspection request, Chinook salmon bycatch video monitoring inspection request, and freezer longline video monitoring inspection request; 30 minutes for notification of Pacific cod freezer longline monitoring option; 16 hours for crab catch monitoring plan (CMP); 8 hours for CMP addendum; 5 minutes for CMP inspection request and catch monitoring and control plan (CMCP) inspection request; 40 hours for CMCP; 8 hours for CMCP addendum; 2 minutes to notify observer of flow scale test and notify observer of hopper scale test; and 5 minutes to notify observer of pollock, CDQ, or rockfish program deliveries.

Estimated Total Annual Burden Hours: 11,037.

Estimated Total Annual Cost to Public: $895,706 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 26, 2017.
Sarah Brabson,
NOAA PRA Clearance Officer.

[FR Doc. 2017-11316 Filed 5-31-17; 8:45 am]

BILLING CODE 3510-22-P